DEPARTMENT OF TRANSPORTATION

Federal Highway Administration

[Docket No. FHWA-2024-0059]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by September 20, 2024.

ADDRESSES: You may submit comments identified by DOT Docket ID Number FHWA-2024-0059 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Ms. Tashia J. Clemons, Office of Infrastructure, 202-493-0551, tashia.clemons@dot.gov, Federal Highway Administration, 1200 New Jersey Ave. SE, Washington, DC 20590. Office hours are from 8:00 a.m. to 4:30 p.m., E.T., Monday through Friday, except Federal holidays.

SUPPLEMENTARY INFORMATION: We published a Federal Register Notice with a 60-day public comment period on this information collection on May 30, 2024, at [89 FR 46985].

FHWA received one comment, a letter from the Virginia Department of Transportation (VDOT) that addressed several subjects, which are summarized below with FHWA's responses:

Comment: FHWA's estimates of the burden hours and costs to develop the AMP and the new resilience and extreme weather analyses are too low; VDOT's estimated level of effort to develop its AMP is significantly higher than FHWA's estimate.

Response: FHWA's estimates of the level of effort and cost to develop the AMP and new resilience and extreme weather analyses are an average across all State Departments of Transportation (State DOTs) that are subject to the requirement to develop and implement an AMP. Some individual State DOTs may have higher costs to comply with this collection of information, and some State DOT costs may be lower. VDOT notes that it has the “3rd largest state-maintained transportation system in the nation,” ¹ so it stands to reason that VDOT's estimated burden would be higher than average for all State DOTs.

¹ VDOT, Comment Letter on FHWA Information Collection; Risk-Based Asset Management Plans (July 29, 2024) at 2, https://www.regulations.gov/comment/FHWA-2024-0043-0002.

Comment: VDOT already develops a State AMP that covers assets beyond what is required under 23 U.S.C. 119(e) and 23 CFR part 515, and VDOT already develops a State Resilience Plan that should fulfill the requirements for extreme weather and resilience analyses now required in a Federal AMP. Requiring a Federal AMP with these analyses is an added burden and an unfunded mandate, and VDOT should be able to meet these requirements using its existing State AMP and Resilience Plan.

Response: The requirement for a State DOT to develop and implement an AMP that now must include consideration of extreme weather and resilience is statutory, and FHWA does not have the authority to waive it for any State DOT.

Comment: The funding used for these unfunded mandates would be better served to go to pavement and structure work that will then impact the network performance.

Response: The requirement for a State DOT to develop and implement an AMP that now must include consideration of extreme weather and resilience is statutory, and FHWA does not have the authority to waive it for any State DOT.

Title: Risk-Based Asset Management Plans.

Background: Under 23 U.S.C. 119(e) and implementing regulations at 23 CFR part 515, State DOTs are required to develop Risked-Based Asset Management Plans (AMP) for the National Highway System (NHS) to improve or preserve the condition of the assets on and the performance of the NHS. Each State DOT must also annually demonstrate to FHWA that it has implemented an AMP that meets the requirements of 23 U.S.C. 119(e) and 23 CFR part 515 (23 CFR 515.13(b)(2)), and each State DOT must submit its processes for the development of its AMP to FHWA for certification and recertification every four years following the year of initial certification (23 U.S.C. 119(e)(6)). Section 11105(3) of the Bipartisan Infrastructure Law (BIL) (Pub. L. 117-58) added the requirement in 23 U.S.C. 119(e)(4)(D) that risk management and lifecycle cost analyses in AMPs discuss extreme weather and resilience.

Respondents: There are 52 State DOTs that are required to submit information to demonstrate implementation of an AMP and to recertify their processes for developing an AMP.² Of these, 17 State DOTs already conduct extreme weather and resilience analyses, so 35 State DOTs would be required to conduct extreme weather and resilience analyses.

² The District of Columbia and Puerto Rico are considered States for the purposes of the Federal-aid highway program. See 23 U.S.C. 101(a)(28).

Frequency: Annually (to demonstrate implementation of an AMP) and every 4 years (when submitting processes for the development of an AMP for recertification).

Estimated Average Burden per Response: Per State DOT, the estimated annual burden is 884 hours for the general AMP preparation, plus an additional 1,560 burden hours per State DOT that does not already perform extreme weather and resilience analyses.

Estimated Total Annual Burden Hours: Total estimated average annual burden is 100,568 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: August 16, 2024.
Jazmyne Lewis,
Information Collection Officer.

[FR Doc. 2024-18736 Filed 8-20-24; 8:45 am]

BILLING CODE 4910-RY-P